DEPARTMENT OF JUSTICE

Notice of Lodging Proposed Consent Decree

In accordance with Departmental Policy, 28 CFR 50.7, notice is hereby given that a proposed Consent Decree in United States v. Maietta Construction, Inc., et al., Civil Action No. 2:21-cv-00131-JDL, was lodged with the United States District Court for the District of Maine on May 14, 2021.

This proposed Consent Decree concerns a complaint filed by the United States against Maietta Construction, Inc., Maietta Enterprises, Inc., and M7 Land Co., LLC (“Defendants”) pursuant to Sections 309(b) and (d) of the Clean Water Act, 33 U.S.C. 1319(b) and (d), to obtain injunctive relief from and impose civil penalties against the Defendants for violating the Clean Water Act by discharging pollutants without a permit into waters of the United States. The proposed Consent Decree resolves these allegations by requiring the Defendants to restore the impacted areas and/or perform mitigation and to pay a civil penalty.

The Department of Justice will accept written comments relating to this proposed Consent Decree for thirty (30) days from the date of publication of this Notice. Please address comments to Perry M. Rosen, United States Department of Justice, Environment and Natural Resources Division, Post Office Box 7611, Washington, DC 20044-7611, pubcomment_eds.enrd@usdoj.gov, and refer to United States v. Maietta Construction, Inc., et al., DJ # 90-5-1-1-20450.

The proposed Consent Decree may be examined at the Clerk's Office, United States District Court for the District of Maine, located at Edward T. Gignoux United States Courthouse, 156 Federal Street, Portland, ME 04101. In addition, the proposed Consent Decree may be examined electronically at http://www.justice.gov/enrd/consent-decrees.

Cherie Rogers,
Assistant Section Chief, Environmental Defense Section, Environment and Natural Resources Division.

[FR Doc. 2021-10630 Filed 5-19-21; 8:45 am]

BILLING CODE 4410-15-P